DEPARTMENT OF LABOR

Employment and Training Administration

[TA-W-64,413]

Visteon Systems, LLC North Penn Plant Electronics Products Group Including On-Site Leased Workers From Ryder Integrated Logistics and Including On-Site Workers From Span America, Inc. Lansdale, Pennsylvania; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 15, 2008, applicable to workers of Visteon Systems, LLC, North Penn Plant, Electronics Products Group, including on-site leased workers from Ryder Integrated Logistics, Lansdale, Pennsylvania. The notice was published in the Federal Register on December 29, 2009 (74 FR 2136). The certification was amended on December 29, 2008 to correct the impact date to read December 6, 2008. The notice was published in the Federal Register on January 6, 2009 (74 FR 469).

At the request of the petitioner, the Department reviewed the certification for workers of the subject firm. The workers produce power control modules, SDARS, and sensors.

New information shows that workers from Span America, Inc. were employed on-site at the Lansdale, Pennsylvania, location of Visteon Systems, LLC, North Penn Plant, Electronics Products Group.

The Department has determined that these workers were sufficiently under the control of Visteon Systems, LLC, North Penn Plant, Electronics Products Group to be covered by this certification.

The intent of the Department's certification is to include all workers of the subject firm adversely affected by the shift in production of power control modules, SDARS, and sensors to Mexico.

Based on these findings, the Department is amending this certification to include workers from Span America, Inc. working on-site at the Lansdale, Pennsylvania, location of the subject firm.

The amended notice applicable to TA-W-64,413 is hereby issued as follows:

All workers of Visteon Systems, LLC, North Penn Plant, Electronics Products Group, including on-site leased workers from Ryder Integrated Logistics and including on-site workers from Span America, Inc., Lansdale, Pennsylvania, who became totally or partially separated from employment on or after December 6, 2008, through December 15, 2010, are eligible to apply for adjustment assistance under Section 223 of the Trade Act of 1974, and are also eligible to apply for alternative trade adjustment assistance under Section 246 of the Trade Act of 1974.

Signed at Washington, DC, this 15th day of June 2010.
Elliott S. Kushner,
Certifying Officer, Division of Trade Adjustment Assistance.

[FR Doc. 2010-16015 Filed 6-30-10; 8:45 am]

BILLING CODE 4510-FN-P